DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the names of one or more persons whose property and interests in property have been unblocked and removed from the list of Specially Designated Nationals and Blocked Persons.

DATES: See Supplementary Information section for effective date.

FOR FURTHER INFORMATION CONTACT: OFAC: Associate Director for Global Targeting, tel.: 202-622-2420; Assistant Director for Licensing, tel.: 202-622-2480; Assistant Director for Regulatory Affairs, tel.: 202-622-4855; Assistant Director for Sanctions Compliance & Evaluation, tel.: 202-622-2490; or the Department of the Treasury's Office of the General Counsel: Office of the Chief Counsel (Foreign Assets Control), tel.: 202-622-2410.

SUPPLEMENTARY INFORMATION:

Electronic Availability

The Specially Designated Nationals and Blocked Persons List (SDN List) and additional information concerning OFAC sanctions programs are available on OFAC's website (www.treasury.gov/ofac).

Notice of OFAC Action

On September 30, 2021, OFAC determined that the property and interests in property of the following persons are unblocked and removed from the SDN List.

Entities

1. ABIF INVESTMENT, S.A., Panama; RUC # 2022799-1-743641 (Panama) [SDNTK].

2. GRUPO LA RIVIERA PANAMA, S.A., Panama; RUC # 2038708-1-745998 (Panama) [SDNTK].

3. SOHO PANAMA, S.A.; RUC # 2422734-1-808115 (Panama) [SDNTK].

4. WAKED INTERNACIONAL PANAMA, S.A., Panama; RUC # 197517-1-394851 (Panama) [SDNTK].

Dated: September 30, 2021.
Gregory T. Gatjanis,
Associate Director, Office of Global Targeting, Office of Foreign Assets Control, U.S. Department of the Treasury.

[FR Doc. 2021-21751 Filed 10-5-21; 8:45 am]

BILLING CODE 4810-AL-P